DEPARTMENT OF JUSTICE

Drug Enforcement Administration

Sheldon Kantor, D.P.M.; Revocation of Registration

On March 28, 2003, the then-Acting Administrator of the Drug Enforcement Administration (DEA) issued an Order to Show Cause/Immediate Suspension of Registration to Sheldon Kantor, D.P.M. (Dr. Kantor) of Hollywood, Florida. Dr. Kantor was notified of an opportunity to show cause as to why DEA should not revoke his DEA Certificate of Registration, AK4080545, as a practitioner, and deny any pending applications for renewal or modification of such registration pursuant to 21 U.S.C. 823(f) and 824(a) for reason that his continued registration would be inconsistent with the public interest. Dr. Kantor was further notified that his DEA registration was immediately suspended as an imminent danger to the public health and safety pursuant to 21 U.S.C. 824(d).

The Order to Show Cause/Immediate Suspension alleged in relevant part, that during the week of February 24, 2003, and again on March 3, 2003, DEA received information from a registered distributor of controlled substances that Dr. Kantor had ordered and received large quantities of Schedule III and IV controlled substances. In response, DEA investigators presented Dr. Kantor with a Notice of Inspection, however, he refused to consent to the inspection. While speaking with investigators, Dr. Kantor admitted he had not maintained a log of controlled substances dispensed. When an investigator inquired as to the location of previously received controlled substances, Dr. Kantor stated that they were in the trunk of his car. He then refused to disclose the whereabouts of that vehicle. The Order to Show Cause alleged that Dr. Kantor also refused to consent to a subsequent inspection of his registered location.

The Order to Show Cause alleged that Dr. Kantor had been convicted in federal court and sentenced to 21 months imprisonment, commencing March 23, 2003, for his involvement in a scheme to defraud the Medicare program of over one million dollars. The Order to Show Cause also outlined how one of Dr. Kantor's patient files revealed his distribution of large quantities of Schedule III and IV controlled substances to a single patient over a seven month period, including 19,200 dosage units of hydrocodone and four prescriptions for OxyContin, a Schedule II controlled substance, to that same patient. When DEA investigators executed a search warrant of the patient's residence on March 12, 2003, the search revealed the patient had several bottles of 100-count hydrocodone tablets. However, the vast majority of hydrocodone tablets, as well as other controlled substances, could not be accounted for.

According to the investigative file, the Order to Show Cause/Immediate Suspension of Registration was personally delivered to Dr. Kantor on March 31, 2003, at a federal detention center in Miami, Florida. More than thirty days have passed since the Order to Show Cause/Immediate Suspension of Registration was served on Dr. Kantor and DEA has not received a request for hearing or any other reply from Dr. Kantor or anyone purporting to represent him in this matter.

Therefore, the Deputy Administrator of DEA, finding that (1) thirty days having passed since the delivery of the Order to Show Cause/Immediate Suspension of Registration to Dr. Kantor, and (2) no request for hearing having been received, concludes that Dr. Kantor is deemed to have waived his hearing right. See David W. Linder, 67 FR 12579 (2002). After considering material from the investigative file in this matter, the Deputy Administrator now enters her final order without a hearing pursuant to 21 CFR 1301.43(d) and (e) and 1301.46.

The Deputy Administrator finds Dr. Kantor is currently registered with DEA as a practitioner under DEA Registration, AK4080545, in Schedules II through V. That registration expires on December 31, 2004. At the time DEA initiated action to revoke his DEA registration, Dr. Kantor was licensed under Florida law as a podiatrist. However, following the issuance and delivery of the Order to Show Cause/Immediate Suspension of Registration, the Deputy Administrator obtained a copy of a Final Order adopted by the State of Florida, Board of Podiatric Medicine (Board) on November 20, 2003. A review of the Final Order reveals that on the above date, the Board permanently revoked Dr. Kantor's license of podiatry.

The investigative file contains no evidence that the Board's Final Order revoking Dr. Kantor's podiatry license has been lifted, stayed or that his license has been reinstated. Therefore, the Deputy Administrator finds that Dr. Kantor is not currently authorized to practice medicine in the State of Florida and as a result, it is reasonable to infer that he is also without authorization to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See Stephen J. Graham, M.D., 69 FR 11661 (2004); Dominick A. Ricci, M.D., 58 FR 51104 (1993); Bobby Watts, M.D., 53 FR 11919 (1988).

Here, it is clear Dr. Kantor's podiatry license has been revoked and therefore, he is not currently licensed to handle controlled substances in Florida, the state where he maintains a DEA controlled substance registration. Therefore, Dr. Kantor is not entitled to a DEA registration in that state. Because Dr. Kantor is not entitled to a DEA registration in Florida due to his lack of state authorization to handle controlled substances, the Deputy Administrator concludes it is unnecessary to address whether his registration should be revoked based upon the public interest grounds asserted in the Order to Show Cause/Immediate Suspension of Registration. See Fereida Walker-Graham, M.D., 68 FR 24761 (2003); Nathaniel-Aikens-Afful, M.D., 62 FR 16871 (1997); Sam F. Moore, D.V.M., 58 FR 14428 (1993).

Accordingly, the Deputy Administrator of the Drug Enforcement Administration, pursuant to the authority vested in her by 21 U.S.C. 823 and 824 and 28 CFR 0.100(b) and 0.104, hereby orders that DEA Certificate of Registration, AK 4080545, issued to Sheldon Kantor, D.P.M. be, and it hereby is, revoked. The Deputy Administrator further orders that any pending applications for renewal or modification of such registration be, and they hereby are, denied. This order is effective November 1, 2004.

Dated: September 13, 2004.
Michele M. Leonhart,
Deputy Administrator.

[FR Doc. 04-21965 Filed 9-29-04; 8:45 am]

BILLING CODE 4410-09-M